FEDERAL RESERVE SYSTEM

12 CFR Part 227

[Regulation AA; Docket No. R-1296]

Unfair or Deceptive Acts or Practices

AGENCY: Board of Governors of the Federal Reserve System.

ACTION: Final rule; conforming references.

SUMMARY: The Board is publishing amendments to Regulation AA (Unfair or Deceptive Acts or Practices) to update the address where consumer complaints regarding a state member bank may be sent.

EFFECTIVE DATE: October 29, 2007.

FOR FURTHER INFORMATION CONTACT: Yvonne Cooper, Manager, Consumer Complaints, Division of Consumer and Community Affairs, Board of Governors of the Federal Reserve System, at (202) 452-3946. For the users of Telecommunications Device for the Deaf (“TDD”) only, contact (202) 263-4869.

SUPPLEMENTARY INFORMATION: The Federal Trade Commission Act requires the Board to establish a separate division of consumer affairs to receive and take appropriate action upon complaints about unfair or deceptive acts or practices for banks under its jurisdiction. See 15 U.S.C. 57a(f). The procedures for submitting consumer complaints are contained in the Board's Regulation AA (12 CFR part 227). The regulation currently directs consumers having complaints regarding a state member bank to submit the complaint to the Board or the Federal Reserve Bank of the district in which the bank is located. 12 CFR 227.2(a). The Board is establishing a centralized location for the administrative processing of consumer complaints. Accordingly, the Board is amending Regulation AA to reflect the new address where such complaints should be sent and to provide a telephone number consumers can use to submit complaints.

List of Subjects in 12 CFR Part 227

Banks, banking, Consumer protection, Credit, Federal Reserve System, Finance.

Authority and Issuance

For the reasons set forth in the preamble, the Board amends 12 CFR part 227 to read as follows:

PART 227—UNFAIR OR DECEPTIVE ACTS OR PRACTICES (REGULATION AA)

1. The authority citation for part 227 continues to read as follows:

Authority: Section 18(f) of the Federal Trade Commission Act (15 U.S.C. 57a).

Subpart A—Consumer Complaints

2. Section 227.2—Consumer-Complaint Procedure, paragraph (a)(2) is revised to read as follows:

§ 227.2 Consumer complaint procedure.

(a) * * *

(2) Consumer complaints should be made to—Federal Reserve Consumer Help Center, P.O. Box 1200, Minneapolis, MN 55480, Toll-free number: (888) 851-1920, Fax number: (877) 888-2520, TDD number: (877) 766-8533.

* * * * *

By order of the Board of Governors of the Federal Reserve System, acting through the Secretary of the Board under delegated authority, September 24, 2007.
Jennifer J. Johnson,
Secretary of the Board.

[FR Doc. E7-19137 Filed 9-27-07; 8:45 am]

BILLING CODE 6210-01-P